DEPARTMENT OF HEALTH AND HUMAN SERVICES

National Institutes of Health

National Institute on Drug Abuse; Notice of Webinar Meeting

SUMMARY: Pursuant to the NIH Reform Act of 2006 (42 U.S.C. Sec.281 (d)(4)), notice is hereby given that the National Institute on Drug Abuse (NIDA) will provide two opportunities to enable public discussion on the Institute's proposal to reorganize its extramural program.

DATES: Opportunity # 1: Beginning June 12, 2015, the NIDA Director will make available an online summary of the proposed reorganization at: http://www.drugabuse.gov/about-nida/noras-blog. Comments will be invited.

Opportunity # 2: A public webinar will take place on June 19, 2015 at 3 p.m. Eastern Time, with attendance limited to space available.

ADDRESSES: Webex Meeting via: https://nih.webex.com/nih/j.php?MTID=mcc2b711f67cee4a9abe2b2a9c1d78a0d. Participants are encouraged to join this meeting at the link provided at least 20 minutes prior to the scheduled start time.

Instructions for joining the event can be found below:

1. Enter the Web URL above into your web browser address bar and hit enter.

2. If requested, enter your name and email address. 3. If a password is required, enter the meeting password: Success1

4. Click “Join.”

For audio support to this event, the audio conference information is as follows:

Phone Number: 1-877-668-4493 Call-in toll-free number (US/Canada).

Participant Code No. 620 763 396.

Any interested person may file written comments by sending an email to NIDAOrgComments@mail.nih.gov by June 24, 2015. The statement should include the individual's name, contact information and, when applicable, professional affiliation.

FOR FURTHER INFORMATION CONTACT: Dave Daubert, Deputy Executive Officer, National Institute on Drug Abuse, Office of Management, 6001 Executive Boulevard, NSC Building, Room 5274,Bethesda, MD 20892, 301-402-1652, daubert@nih.gov.

SUPPLEMENTARY INFORMATION: The agenda for the web meeting will consist of updates made to the proposed reorganization plans for the NIDA extramural program based on findings by the National Advisory Council on Drug Abuse. The proposal seeks to bridge and integrate the key areas of translational neuroscience and neurobehavioral research, as well as capitalize on emerging scientific opportunities, while reducing barriers to scientific and interdisciplinary collaboration.

Members of the public wishing to attend the Webinar must view the discussion via webex link https://nih.webex.com/nih/j.php?MTID=mcc2b711f67cee4a9abe2b2a9c1d78a0d and enter the audio conference information above from their telephone. Upon opening the link provided, please contact your IT support group for assistance in uploading any necessary drivers (e.g. MBR2 player) prior to the start of this event.

Dated: June 3, 2015.
Nora Volkow,
Director, National Institute on Drug Abuse, National Institutes of Health.

[FR Doc. 2015-14062 Filed 6-8-15; 8:45 am]

BILLING CODE 4140-01-P